DEPARTMENT OF HOUSING AND URBAN DEVELOPMENT

[Docket No. FR-4560-FA-14]

Announcement of Funding Awards for Fiscal Year 2000 Hispanic-serving Institutions Assisting Communities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2000 Hispanic-serving Institutions Assisting Communities Program. The purpose of this document is to announce the names and addresses of the award winners and the amount of the awards which are to be used to help Hispanic-serving Institutions of Higher Education expand their role and effectiveness in addressing community development needs in their localities, consistent with the purposes of HUD's Community Development Block Grant program (CDBG).

FOR FURTHER INFORMATION CONTACT: Jane Karadbil, Office of University Partnerships, U.S. Department of Housing and Urban Development, Room 8110, 451 Seventh Street, S.W., Washington, DC 20410, telephone (202) 708-1537, extension 5918. To provide service for persons who are hearing-or-speech-impaired, this number may be reached via TTY by Dialing the Federal Information Relay Service on 1-800-877-TTY, 1-800-877-8339, or 202-708-1455. (Telephone number, other than “800” TTY numbers are not toll free.)

SUPPLEMENTARY INFORMATION: The Hispanic-serving Institutions Assisting Communities Program (HSIAC) was enacted under section 107 of the CDBG appropriation for fiscal year 2000, as part of the “Veterans Administration, HUD and Independent Agencies Appropriations Act of 2000” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Hispanic-serving Institutions Assisting Communities Program provides funds for a wide range of CDBG-eligible activities including housing rehabilitation and financing, property demolition or acquisition, public facilities, economic development, business entrepreneurship, and fair housing programs. On February 24, 2000 (65 FR 9455), HUD published a Notice of Funding Availability (NOFA) announcing the availability of $6.5 million in Fiscal Year 2000 funds for the Hispanic-serving Institutions Assisting Communities Program. The Department reviewed, evaluated and scored the applications received based on the criteria in the NOFA. As a result, HUD 15 applications were funded. These grants, with their grant amounts are identified below.

The Catalog Federal Domestic Assistance number for this program is 14.514.

In accordance with section 102(a)(4)(C) of the Department of Housing and Urban Development Reform Act of 1989 (Pub. L. 101-235, approved December 15, 1989), the Department is publishing details concerning the recipients of funding awards, as follows:

List of Awardees for Grant Assistance Under the FY 2000 Hispanic-serving Institutions Assisting Communities Program Funding Competition, by Name and Address

New York/New Jersey

1. Hudson County Community College, Dr. Estelle Greenberg, Hudson County Community College, 25 Journal Square, Jersey City, NJ 07306. Grant: $398,826.

Southwest

2. Albuquerque Technical Vocational Institute, Dr. John Walstrum, Albuquerque Technical Vocational Institute, 525 Buena Vista SW, Albuquerque, NM 87106. Grant: $400,000.

3. El Paso Community College, C. Alfred Lawrence, El Paso Community College, P.O. Box 20500, El Paso, RX 79998. Grant: $399,000.

4. Houston Community College, Helga Mattei, Houston Community College, P.O. Box 7849, 22 Waugh Drive, Houston, TX 77270. Grant: $395,000.

5. Midland College, Rebecca Bell, Midland College, 3600 N. Garfield, Midland, TX 79705. Grant: $400,000.

6. New Mexico State University-Dona Ana Branch Community College, Dr. Majorie Burr, New Mexico State University-Dona Ana Branch Community College, Box 30001, MSC 3DA, Las Cruces, NM 88003. Grant: $400,000.

7. Palo Alto College, Mike Floes, Palo Alto College, 1400 W. Villaret, San Antonio, TX 78224. Grant: $362,720.

8. University of New Mexico, Teresa Cordova, University of New Mexico, 105 Scholes Hall, Albuquerque, NM 87131. Grant: $398,388.

9. University of Texas at El Paso, Jeanette Holmes, University of Texas at El Paso, 500 West University Avenue, El Paso, TX 79968. Grant: $399,964.

Rocky Mountains

10. University of Southern Colorado, C.J. Crumley, University of Southern Colorado, 2200 Bonforte Blvd., Pueblo, CO 81001. Grant: $400,000.

Pacific/Hawaii

11. Arizona Western College, Dr. Cheryl Johnson, Arizona Western College, P.O. Box 929, Yuma, AZ 85366. Grant: $374,548.

12. California State University, Northridge, Dr. Jorge Garcia, California State University, Northridge, 18111 Nordhoff Street, Northridge, CA 91330. Grant: $400,000.

13. Merced College, Don Curtaz, Merced College, 3600 M Street, Merced, CA 95348. Grant: $400,000.

14. San Diego State University, Imperial Valley Campus, Suzanna Fuentes-Ferreiro, San Diego State University, Imperial Valley, 5250 Campanile Drive, San Diego, CA 92182. Grant: $400,000.

15. Yosemite Community College District, Modesto Junior College, Dr. Tom Bennett, Yosemite Community College District, Modesto Junior College, 2201 Blue Gum Avenue, P.O. Box 65, Modesto, CA 95352. Grant: $400,000.

Dated: October 23, 2000.
Lawrence L. Thompson,
General Deputy Assistant Secretary for Policy Development and Research.

[FR Doc. 00-27981 Filed 10-31-00; 8:45 am]

BILLING CODE 4210-62-P